DEPARTMENT OF TRANSPORTATION

Maritime Administration

[Docket No. MARAD-2020-0021]

Request for Comments of a Previously Approved Information Collection: Maritime Administration Jones Act Vessel Availability Determinations

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 15, 2019.

DATES: Comments must be submitted on or before March 23, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: Michael Hokana, (202) 366-0760, Office of Cargo and Commercial Sealift, Maritime Administration, 1200 New Jersey Avenue SE, Washington, DC 20590.

SUPPLEMENTARY INFORMATION:

Title: Maritime Administration (MarAd) Jones Act Vessel Availability Determinations.

OMB Control Number: 2133-0545.

Type of Request: Renewal of a Previously Approved Information Collection.

Background: Pursuant to 46 U.S.C. 501(b), the Maritime Administrator is required to make determinations of the availability of qualified United States flag capacity to carry coastwise cargo in connection with all requests for waivers of the Jones Act (46 U.S.C. 55102). This information collection supports that mission.

Respondents: Respondents include but are not limited to coastwise qualified vessel owners, operators, charterers, brokers and representatives.

Affected Public: Business or other for profit.

Total Estimated Number of Responses: 85.

Frequency of Collection: Annually.

Estimated Time per Respondent: .5 hours.

Total Estimated Number of Annual Burden Hours: 127.5.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * *

Dated: February 14, 2020.
By Order of the Maritime Administrator.
T. Mitchell Hudson, Jr.,
Secretary, Maritime Administration.

[FR Doc. 2020-03344 Filed 2-19-20; 8:45 am]

BILLING CODE 4910-81-P